DEPARTMENT OF LABOR

Office of the Secretary

Submission for OMB Review; Comment Request

December 27, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), on or before February 5, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Asbestos in Construction.

OMB Number: 1218-0134.

Affected Public: Business or other for-profit; Federal Government; and State, Local or Tribal Government.

Frequency: On occasion.

Number of Respondents: 286,821.

Number of Annual Responses: 52,828,437.

Estimated Time Per Response: Varies from 5 minutes to maintain records to 17.3 hours for training a competent person.

Total Burden Hours: 5,569,659.

Total Annualized Capital/Startup Costs: $0.

Total Annual Costs (operating/maintaining systems or purchasing services): $30,730,200.

Description: 29 CFR 1926.1101 requires employers to train employees about hazards of asbestos exposure, to provide medical surveillance, and maintain accurate records of employee exposure to asbestos. These records will be used by employers, employees, and the Federal government to ensure that employees are not harmed by occupational exposure to asbestos.

Type of Review: Extension of a currently approved collection.

Agency: Occupational Safety and Health Administration (OSHA).

Title: Asbestos in Shipyards.

OMB Number: 1218-0195.

Affected Public: Business or other for-profit; Federal Government; and State, Local, or Tribal Government.

Frequency: On occasion.

Number of Respondents: 80.

Number of Annual Responses: 2,470.

Estimated Time Per Response: Varies from 5 minutes to maintain records to 17.3 hours for training a competent person.

Total Burden Hours: 1,483.

Total Annualized Capital/Startup Costs: $0.

Total Annual Costs (operating/maintaining systems or purchasing services): $34,147.

Description: 29 CFR 1915.1001 requires employers to train employees about hazards of asbestos exposure, to provide medical surveillance, and maintain accurate records of employee exposure to asbestos. These records will be used by employers, employees, and the Federal government to ensure that employees are not harmed by occupational exposure to asbestos.

Ira L. Mills,
Departmental Clearance Officer.

[FR Doc. 01-224 Filed 1-3-01; 8:45 am]

BILLING CODE 4510-26-M